DEPARTMENT OF JUSTICE

Notice of Lodging of Proposed Consent Decree Under the Comprehensive Environmental Response, Compensation and Liability Act

On September 16, 2021, the Department of Justice lodged a proposed Consent Decree Amendment with the United States District Court for the District of Rhode Island in the lawsuit entitled United States and Rhode Island v. Ashland, Inc., et al., Civil Action No. 11-558-M-DLM and 11-664-M-DLM.

The United States seeks performance of a remedial action under sections 106 and 107 of the Comprehensive Environmental Response, Compensation, and Liability Act (“CERCLA”) concerning groundwater at the Davis Liquid Waste Superfund Site (“Site”), located in Smithfield, Rhode Island (the “Site”). On February 17, 2012, this Court approved a Consent Decree with seven Settling Defendants pursuant to CERCLA under which the Settling Defendants agreed to perform the remedial action addressing contamination in groundwater at the Site. In 2020, EPA amended its cleanup remedy for the groundwater at the Site. Under this proposed Amendment to the 2012 Consent Decree, the Settling Parties agree to perform the amended remedial action for groundwater at the Site.

The publication of this notice opens a period for public comment on the Consent Decree Amendment. Comments should be addressed to the Assistant Attorney General, Environment and Natural Resources Division, and should refer to United States v. Ashland, Inc. et al., D.J. Ref. No. 90-11-2-137/3. All comments must be submitted no later than thirty (30) days after the publication date of this notice.

Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611. Please enclose a check or money order for $5.75 for a copy of the Consent Decree without the appendices or for $46.25 for a copy of the Consent Decree with appendices (25 cents per page reproduction cost) payable to the United States Treasury.

Henry Friedman,
Assistant Section Chief, Environmental Enforcement Section, Environment and Natural Resources Division.

[FR Doc. 2021-20604 Filed 9-22-21; 8:45 am]

BILLING CODE 4410-15-P